DEPARTMENT OF TRANSPORTATION

Pipeline and Hazardous Materials Safety Administration

Office of Hazardous Materials Safety; Notice of Applications for Modification of Special Permit

AGENCY: Pipeline and Hazardous Materials Safety Administration (PHMSA).

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. There applications have been separated from the new application for special permits to facilitate processing.

DATES: Comments must be received on or before March 5, 2009.

Address Comments to: Record Center, Pipeline and Hazardous Materials Safety Administration U.S. Department of Transportation Washington, DC 20590

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://dms.dot.gov.

This notice of receipt of applications for modification of special permit is published in accordance with Part 107 of the Federal hazardous materials transportation law (49 U.S.C. 5117(b); 49 CFR 1.53(b)).

Issued in Washington, DC, on February 10, 2009.
Delmer F. Billings,
Director, Office of Hazardous Materials Special Permits and Approvals.

Application No. | Docket No. | Applicant | Regulation(s) affected | Nature of special permit thereof
MODIFICATION SPECIAL PERMITS
11624-M |  | Pacific Commercial Services, LLC Honolulu, HI | 49 CFR 173.173(b)(2) | To modify the special permit to authorize the transportation in commerce of household hazardous wastes identified as paint or paint related material, Class 3, in quantities greater than those presently authorized.
12571-M |  | AirProducts and Chemicals, Inc. Allentown, PA | 49 CFR 173.304(a)(2); 180.209 | To modify the special permit to authorize the addition of Silane a Division 2.1 hazardous material and to add fill density for Silane.
13961-M |  | 3AL Testing Corporation Denver, CO | 49 CFR 172.203(a); 172.301(c); 180.205(f), (g); 180.209(a) | To modify the special permit to reduce the number of calibration cylinders required for UE testing.
14149-M |  | Digital Wave Corporation Centennial, CO | 49 CFR 180.205, 180.209 | To modify the special permit to reduce the number of calibration cylinders required for UE testing.
14436-M |  | BNSF Railway Company Topeka, KS | 49 CFR 174.14(a) and (b) | To modify the special permit to authorization additional unsignaled (dark) carrier lines.
14510-M |  | Clean Earth Systems, Inc. Tampa, FL | 49 CFR 173.12(b), 173.12(b)(2)(i) | To modify the special permit to add cargo vessel as an additional mode of transportation.
14773-M |  | Pacific Northwest National Laboratory (PNNL) Richland, WA | 49 CFR 173.416 | To reissue the special permit originally issued on an emergency basis to authorize transportation in commerce of fissile material in a non DOT specification packaging.

[FR Doc. E9-3242 Filed 2-17-09; 8:45 am]

BILLING CODE 4910-60-M